NUCLEAR REGULATORY COMMISSION

10 CFR Part 35

[NRC-2008-0071]

RIN 3150-AI26

Medical Use of Byproduct Material—Amendments/Medical Event Definitions; Extension of Comment Period

AGENCY: Nuclear Regulatory Commission.

ACTION: Proposed rule: Extension of comment period.

SUMMARY: On August 6, 2008 (73 FR 45635), the Nuclear Regulatory Commission (NRC) published for public comment a proposed rule that would amend its regulations in 10 CFR Part 35, “Medical Use of Byproduct Material” to change medical event definitions. The public comment period for this proposed rule was to have expired on October 20, 2008.

By letter dated September 16, 2008, the NRC's Advisory Committee on the Medical Use of Isotopes (ACMUI) requested an extension to November 7, 2008. As explained in the letter, the fall meeting of the ACMUI is scheduled for October 27 and 28, 2008, and the subject matter in the proposed rule is on the agenda for discussion at this public meeting. ACMUI believes that it will be able to provide better comment on the proposed rule following this discussion. Due to the complex nature of the proposed medical rule and the high public interest of the medical community, the NRC has decided to extend the comment period until November 7, 2008.

DATES: The comment period has been extended and now expires on November 7, 2008. Comments received after this date will be considered if it is practical to do so, but the NRC is able to assure consideration only for comments received on or before this date.

ADDRESSES: Please include the following number RIN 3150-AI26 in the subject line of your comments. Comments on rulemakings submitted in writing or in electronic form will be made available to the public in their entirety on the NRC's Web site in the Agencywide Documents Access and Management System (ADAMS) and at http://www.regulations.gov. Personal information, such as your name, address, telephone number, e-mail address, etc., will not be removed from your submission. You may submit comments by any one of the following methods.

Electronically: Via the Federal eRulemaking Portal (Docket ID NRC-2008-0071) and follow instructions for submitting comments. Address questions about this docket to Carol Gallagher 301-415-5905; e-mail Carol.Gallagher@nrc.gov.

Mail comments to: Secretary, U.S. Nuclear Regulatory Commission, Washington, DC 20555-0001, ATTN: Rulemakings and Adjudications Staff.

E-mail comments to: Rulemaking.Comments@nrc.gov. If you do not receive a reply e-mail confirming that we have received your comments, contact us directly at 301-415-1966.

Hand deliver comments to: 11555 Rockville Pike, Rockville, Maryland 20852, between 7:30 a.m. and 4:15 p.m. Federal workdays. (Telephone 301-415-1966).

Fax comments to: Secretary, U.S. Nuclear Regulatory Commission at 301-415-1101.

You may submit comments on the information collections by the methods indicated in the Paperwork Reduction Act Statement.

Publicly available documents related to this rulemaking may be viewed electronically on the public computers located at the NRC's Public Document Room (PDR), Room O-1 F21, One White Flint North, 11555 Rockville Pike, Rockville, Maryland. The PDR reproduction contractor will copy documents for a fee.

Publicly available documents created or received at the NRC after November 1, 1999, are available electronically at the NRC's Electronic Reading Room at http://www.nrc.gov/reading-rm/adams.html. From this site, the public can gain entry into ADAMS, which provides text and image files of NRC's public documents. If you do not have access to ADAMS or if there are problems in accessing the documents located in ADAMS, contact the PDR Reference staff at 1-800-397-4209, 301-415-4737 or by e-mail to pdr.resource@nrc.gov.

FOR FURTHER INFORMATION CONTACT: Edward M. Lohr, Office of Federal and State Materials and Environmental Management Programs, U.S. Nuclear Regulatory Commission, Washington, DC 20555-0001, telephone 301-415-0253, e-mail, Edward.Lohr@nrc.gov.

Dated at Rockville, Maryland, this 30th day of September 2008.
For the Nuclear Regulatory Commission.
Annette Vietti-Cook,
Secretary of the Commission.

[FR Doc. E8-23534 Filed 10-3-08; 8:45 am]

BILLING CODE 7590-01-P